DEPARTMENT OF DEFENSE

Department of the Navy

[Docket ID USN-2009-0016]

Privacy Act of 1974; System of Records

AGENCY: Department of the Navy, DoD.

ACTION: Notice to Amend a System of Records.

SUMMARY: The Department of the Navy is amending a system of records notice in its existing inventory of record systems subject to the Privacy Act of 1974 (5 U.S.C. 552a), as amended.

DATES: This proposed action will be effective without further notice on July 8, 2009 unless comments are received which result in a contrary determination.

ADDRESSES: Send comments to the Department of the Navy, PA/FOIA Policy Branch, Head of Naval Operations (DNS-36), 2000 Navy Pentagon, Washington, DC 20350-2000.

FOR FURTHER INFORMATION CONTACT: Ms. Miriam Brown-Lam (202) 685-6545.

SUPPLEMENTARY INFORMATION: The Department of the Navy systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: June 1, 2009.
Morgan E. Frazier,
Alternate OSD Federal Register Liaison Officer, Department of Defense.

NM01070-14

SYSTEM NAME:

Seabee Personnel and Readiness Management System (PRMS) (April 30, 2008, 73 FR 23429.

CHANGES:

* * * * *

SYSTEM NAME:

Delete entry and replace with “Personnel Information System for Training, Operations, and Logistics (PISTOL).”

* * * * *

NM01070-14

SYSTEM NAME:

Personnel Information System for Training, Operations, and Logistics (PISTOL).

SYSTEM LOCATION:

Naval Facilities Information Technology Center, 1000 23rd Avenue, Port Hueneme, CA 93043-1000.

CATEGORIES OF INDIVIDUALS COVERED BY THE SYSTEM:

Navy and Marine Corps military personnel assigned to units within the Naval Construction Forces and Navy personnel assigned to Amphibious Construction Battalions and Expeditionary Logistic Support Groups.

CATEGORIES OF RECORDS IN THE SYSTEM:

Individual's name, Social Security Number (SSN), personnel and training records; identification of individual skill sets; and information concerning gear sizes/issuances.

AUTHORITY FOR MAINTENANCE OF THE SYSTEM:

10 U.S.C. 5013, Secretary of the Navy; 10 U.S.C. 5041, Headquarters, Marine Corps; and E.O. 9397 (SSN).

PURPOSE(S):

To ensure readiness of Seabee personnel for deployment.

To develop and maintain unit recall and alpha rosters for entire units, companies, detachments, military teams, etc.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

The DoD “Blanket Routine Uses” that appear at the beginning of the Navy's compilation of systems of records notices apply to this system.

POLICIES AND PRACTICES FOR STORING, RETRIEVING, ACCESSING, RETAINING, AND DISPOSING OF RECORDS IN THE SYSTEM:

STORAGE:

Paper records and electronic storage media.

RETRIEVABILITY:

Records are retrieved by individual's name and Social Security Number (SSN).

SAFEGUARDS:

Access is provided on a “need-to-know” basis and to authorized personnel only. Records are maintained in controlled access rooms or areas. Data is limited to personnel training associated information. Computer terminal access is controlled by terminal identification, CAC cards and the password or similar system. Physical access to terminals is restricted to specifically authorized individuals. Password authorization, assignment and monitoring are the responsibility of the functional managers.

RETENTION AND DISPOSAL:

Records are retained for 20 years and then destroyed.

SYSTEM MANAGER(S) AND ADDRESS:

Director, Naval Facilities Information Technology Center, 1000 23rd Avenue, Port Hueneme, CA 93043-1000.

NOTIFICATION PROCEDURE:

Individuals seeking to determine whether information about themselves is contained in this system should address written inquiries to the Director, Naval Facilities Information Technology Center, 1000 23rd Avenue, Port Hueneme, CA 93043-1000.

The request should be signed and contain individual's full name and Social Security Number (SSN).

RECORD ACCESS PROCEDURES:

Individuals seeking to access information about themselves contained in this system should address written inquiries to Director, Naval Facilities Information Technology Center, 1000 23rd Avenue, Port Hueneme, CA 93043-1000.

The request should be signed and contain individual's full name and Social Security Number (SSN).

CONTESTING RECORD PROCEDURES:

The Navy's rules for accessing records, and for contesting contents and appealing initial agency determinations are published in Secretary of the Navy Instruction 5211.5; 32 CFR part 701; or may be obtained from the system manager.

RECORD SOURCE CATEGORIES:

Individual, military personnel file, command personnel, and electronic training jacket.

EXEMPTIONS CLAIMED FOR THE SYSTEM:

None.

[FR Doc. E9-13268 Filed 6-5-09; 8:45 am]

BILLING CODE 5001-06-P